SMALL BUSINESS ADMINISTRATION

[Disaster Declaration #17301 and #17302; WASHINGTON Disaster Number WA-00100]

Presidential Declaration of a Major Disaster for the State of Washington

AGENCY: U.S. Small Business Administration.

ACTION: Notice.

SUMMARY: This is a Notice of the Presidential declaration of a major disaster for the State of Washington (FEMA-4635-DR), dated 01/05/2022.

Incident: Flooding and Mudslides.

Incident Period: 11/13/2021 through 11/15/2021.

DATES: Issued on 01/05/2022.

Physical Loan Application Deadline Date: 03/07/2022.

Economic Injury (EIDL) Loan Application Deadline Date: 10/05/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/05/2022, applications for disaster loans may be filed at the address listed above or other locally announced locations.

The following areas have been determined to be adversely affected by the disaster:

Primary Areas (Physical Damage and Economic Injury Loans): Clallam, Skagit, and Whatcom Counties and the Lummi Nation, Nooksack Indian Tribe, and Quileute Tribe.

Contiguous Counties (Economic Injury Loans Only):

Washington: Chelan, Island, Jefferson, Okanogan, Snohomish.

The Interest Rates are:

| Percent
For Physical Damage:
Homeowners with Credit Available Elsewhere | 2.875
Homeowners without Credit Available Elsewhere | 1.438
Businesses with Credit Available Elsewhere | 5.660
Businesses without Credit Available Elsewhere | 2.830
Non-Profit Organizations with Credit Available Elsewhere | 1.875
Non-Profit Organizations without Credit Available Elsewhere | 1.875
For Economic Injury:
Businesses & Small Agricultural Cooperatives without Credit Available Elsewhere | 2.830
Non-Profit Organizations without Credit Available Elsewhere | 1.875

The number assigned to this disaster for physical damage is 17301 6 and for economic injury is 17302 0.

(Catalog of Federal Domestic Assistance Number 59008)

Barbara Carson,
Acting Associate Administrator for Disaster Assistance.

[FR Doc. 2022-00518 Filed 1-12-22; 8:45 am]

BILLING CODE 8026-03-P